DEPARTMENT OF THE INTERIOR

Bureau of Land Management

[LLNV912000 L13400000.PQ0000 LXSS006F0000; MO#4500104656]

Notice of Public Meeting: Bureau of Land Management Nevada Resource Advisory Councils

AGENCY: Bureau of Land Management, Interior.

ACTION: Notice.

SUMMARY: In accordance with the Federal Land Policy and Management Act and the Federal Advisory Committee Act of 1972, the Bureau of Land Management (BLM) Nevada will hold a joint meeting of its three Resource Advisory Councils (RACs), the Sierra Front-Northwestern Great Basin RAC, the Northeastern Great Basin RAC, and the Mojave-Southern Great Basin RAC. The meeting is open to the public and a public comment period is scheduled for April 5, 2017.

DATES: The RACs will meet on Tuesday, April 4, 2017, from 1 p.m. to 4:30 p.m.; Wednesday, April 5, 2017, from 8 a.m. to 4:30 p.m.; and Thursday, April 6, 2017, from 8 a.m. to 3:30 p.m. A public comment period will be held on Wednesday, April 5, 2017 at 3:30 p.m. The agenda and additional information will be posted 2 weeks prior to the meeting at https://on.doi.gov/2kxTU8l. On Tuesday, April 4, 2017, prior to the Tri-RAC meeting, the recreation, planning, and standards and guides subcommittees of the Mojave-Southern Great Basin RAC will meet from 9 a.m. to 12 p.m.

ADDRESSES: The meetings will be held at the Elko Convention Center, 700 Moren Way, Elko, Nevada. Comments may also be submitted by email to crose@blm.gov with the words “2017 Tri-RAC Comment” in the subject line. Written comments should be sent to the following address and be received no later than March 21: BLM Nevada Tri-RAC Comments, Attention: Chris Rose, 1340 Financial Boulevard, Reno, Nevada 89502.

FOR FURTHER INFORMATION CONTACT: Chris Rose by telephone at (775) 861-6480, or by email at crose@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The three 15-member Nevada RACs advise the Secretary of the Interior, through the BLM Nevada State Director, on a variety of planning and management issues associated with public land management in Nevada. Agenda topics include presentations on public lands, wild horses and burros, the Great Basin Landscape Conservation Cooperative, and the National Conservation Lands program. Training conducted during the meeting will include the National Environmental Policy Act, RAC roles and responsibilities, and media training for RAC members and BLM staff. The meeting will also include closeout reports of the three RACs; breakout meetings of the three RACs and state level subgroups for sage grouse, wild horses and burros and grazing; and scheduling meetings of the individual RACs for the upcoming year. The public may provide written comments to the three RAC groups or to an individual RAC.

Individuals who plan to attend and need further information about the meeting or need special assistance such as sign language interpretation or other reasonable accommodations may contact Chris Rose at the phone number or email address above. Before including your address, phone number, email address, or other personal identifying information in your comments, please be aware that your entire comment, including your personal identifying information, may be made publicly available at any time. While you can ask us in your comment to withhold your personal identifying information from public review, we cannot guarantee that we will be able to do so.

Rudy Evenson,
Deputy Chief, Office of Communications.

[FR Doc. 2017-04902 Filed 3-10-17; 8:45 am]

BILLING CODE 4310-HC-P